DEPARTMENT OF LABOR

Employment and Training Administration

[TA-W-70,832]

American Standard Brands, Crane Plastic, A Subsidiary of AS America, Inc. Formerly Known As Crane Plumbing LLC Mansfield, OH; Amended Certification Regarding Eligibility to Apply for Worker Adjustment Assistance

In accordance with section 223 of the Trade Act of 1974, as amended (“Act”), 19 U.S.C. 2273, the Department of Labor issued a Certification of Eligibility to Apply for Worker Adjustment Assistance on July 22, 2009, applicable to workers of American Standard Brands, Crane Plastic, a subsidiary of AS America, Inc., Mansfield, Ohio. The notice was published in the Federal Register on September 2, 2009 (74 FR 45477).

At the request of the State agency, the Department reviewed the certification for workers of the subject firm. The workers are engaged in activities related to the production of bathroom shower surround systems, tubs, and associated plastic products including “Rope Twist” surround walls.

Information shows that some workers separated from employment at the subject firm had their wages reported under a separated unemployment insurance (UI) tax account for Crane Plumbing LLC, the former parent firm of the subject firm.

Accordingly, the Department is amending this certification to properly reflect this matter.

The intent to the Department's certification is to include all workers of the subject firm who were adversely affected by the shift in production of bathroom shower surround systems, tubs and associated plastic products including “Rope Twist” surround walls to Mexico.

The amended notice applicable to TA-W-70,832 is hereby issued as follows:

“All workers of American Standard Brands, Crane Plastic, a subsidiary of AS America, Inc., formerly known as Crane Plumbing LLC, Mansfield, Ohio, who became totally or partially separated from employment on or after June 1, 2008 through July 22, 2011, and all workers in the group threatened with total or partial separation from employment on date of certification through two years from the date of certification, are eligible to apply for adjustment assistance under Chapter 2 of Title II of the Trade Act of 1974, as amended.”

Signed at Washington, DC this 3rd day of September 2009.
Elliott S. Kushner,
Certifying Officer, Division of Trade Adjustment Assistance.

[FR Doc. E9-22750 Filed 9-21-09; 8:45 am]

BILLING CODE 4510-FN-P